DEPARTMENT OF ENERGY

Federal Energy Regulatory Commission

[Project No. 2373-016]

Midwest Hydro, LLC; Notice of Reasonable Period of Time for Water Quality Certification Application

On April 15, 2025, the Illinois Environmental Protection Agency (Illinois EPA) submitted to the Federal Energy Regulatory Commission (Commission) notice that it received a request for a Clean Water Act section 401(a)(1) water quality certification as defined in 40 CFR 121.5, from Midwest Hydro, LLC, in conjunction with the above captioned project on April 1, 2025. Pursuant to the Commission's regulations,¹ we hereby notify Illinois EPA of the following:

¹ 18 CFR 4.34(b)(5)(iii).

Date of Receipt of the Certification Request: April 1, 2025.

Reasonable Period of Time to Act on the Certification Request: One year, April 1, 2026.

If Illinois EPA fails or refuses to act on the water quality certification request on or before the above date, then the certifying authority is deemed waived pursuant to section 401(a)(1) of the Clean Water Act, 33 U.S.C. 1341(a)(1).

Dated: April 25, 2025.
Debbie-Anne A. Reese,
Secretary.

[FR Doc. 2025-07564 Filed 4-30-25; 8:45 am]

BILLING CODE 6717-01-P